DEPARTMENT OF EDUCATION

Tests Determined To Be Suitable for Use in the National Reporting System for Adult Education

AGENCY: Office of Career, Technical, and Adult Education, Department of Education.

ACTION: Notice.

SUMMARY: The Secretary announces tests, test forms, and delivery formats that the Secretary determines to be suitable for use in the National Reporting System for Adult Education (NRS). The Secretary also clarifies that, to provide for the transition from the performance accountability system for the Adult Education and Family Literacy Act (AEFLA) program under the Workforce Investment Act of 1998 (WIA) to the performance accountability system for AEFLA as reauthorized by the Workforce Innovation and Opportunity Act (WIOA), this announcement will remain effective until June 30, 2019.

FOR FURTHER INFORMATION CONTACT: Jay LeMaster, Department of Education, 400 Maryland Avenue SW., Room 11-152, Potomac Center Plaza, Washington, DC 20202-7240. Telephone: (202) 245-6218 or by email: John.LeMaster@ed.gov.

If you use a telecommunications device for the deaf (TDD) or a text telephone (TTY), call the Federal Relay Service (FRS), toll free, at 1-800-877-8339.

SUPPLEMENTARY INFORMATION: On January 14, 2008, we published in the Federal Register final regulations for 34 CFR part 462, Measuring Educational Gain in the National Reporting System for Adult Education (NRS regulations) (73 FR 2306). The NRS regulations established the process the Secretary uses to determine the suitability of tests for use in the NRS by States and local eligible providers. We annually publish in the Federal Register and post on the Internet at www.nrsweb.org a list of the names of tests and the educational functioning levels the tests are suitable to measure in the NRS as required by § 462.12(c)(2).

On April 16, 2008, we published in the Federal Register a notice inviting test publishers to submit tests for review (73 FR 20616).

On February 2, 2010, we published in the Federal Register a notice (February 2010 notice) listing the tests and test forms the Secretary determined to be suitable for use in the NRS (75 FR 5303).

The Secretary determined tests and test forms to be suitable for a period of either seven or three years from the date of the February 2010 notice. A seven-year approval required no additional action on the part of the publisher, unless the information the publisher submitted as a basis for the Secretary's review was inaccurate or unless the test is substantially revised. A three-year approval was issued with a set of conditions to be met by the completion of the three-year period. If these conditions were met, the Secretary would approve a period of time for which the test may continue to be used in the NRS.

On September 12, 2011, we published in the Federal Register (76 FR 56188) an annual notice of tests determined suitable for use in the NRS (September 2011 notice). The September 2011 notice updated the list published in the February 2010 notice and included suitable test delivery formats. The September 2011 notice clarified that some, but not all, tests using computer-adaptive or computer-based delivery formats are suitable for use in the NRS.

On August 6, 2012, we published in the Federal Register (77 FR 46749) an annual notice of tests determined suitable for use in the NRS (August 2012 notice) that included the same list of forms and computer delivery formats for the tests published in the September 2011 notice. We also announced a sunset period during which States and local providers could continue to use tests with three-year NRS approvals otherwise expiring on February 2, 2013, during a transition period ending on June 30, 2014.

On January 25, 2013, we announced in the Federal Register (78 FR 5430) an extension of the approval period for tests approved for a three-year period beginning on February 2, 2010. The approval period was extended from February 2, 2013 to September 30, 2013, without affecting the sunset period ending on June 30, 2014.

On December 12, 2013, we published in the Federal Register (78 FR 75550) an annual notice of tests determined suitable for use in the NRS (December 2013 notice) that updated the August 2012 notice and provided an extension of the approval period for three tests initially approved for a three-year conditional period from February 2, 2010. The approval period was extended to June 30, 2015. We also announced an extension of the approval period for one additional test—a revised version of a test previously approved for a three-year conditional period from February 2, 2010. The approval period for that test also was extended to June 30, 2015.

On October 29, 2014, we published in the Federal Register (79 FR 64369) an annual notice of tests determined suitable for use in the NRS (October 2014 notice) that updated the December 2013 notice. We announced that the four tests with approvals extended through June 30, 2015, may be used in the NRS during a sunset period ending on June 30, 2016.

On August 12, 2015, we published in the Federal Register (80 FR 48304) an annual notice of tests determined suitable for use in the NRS (August 2015 notice) that updated the October 2014 notice. We announced that three tests, previously approved for an extended period through June 30, 2015, were approved for an extended period through February 2, 2017, and one test—a revised version of a test previously approved for an extended period through June 30, 2015—was approved for an extended period through February 2, 2017.

In this document, the Secretary announces the list of tests and test forms determined to be suitable for use in the NRS. These include: (1) The eight tests previously approved for a seven-year period from February 2, 2010 through February 2, 2017 and now approved for an extended period through February 2, 2019; (2) three tests previously approved for an extended period through February 2, 2017 and now approved for an extended period through February 2, 2019; and (3) one test—a revised version of a test previously approved for an extended period through February 2, 2017—for which the Secretary is extending approval through February 2, 2019. The Secretary is taking this action to extend the approval periods for all 12 of these tests through February 2, 2019 in light of the following intervening factors: (1) The Department's plan to implement new descriptors for the NRS educational functioning levels and implement new regulations in 34 CFR part 462 that became effective on September 19, 2016 and that will govern the assessment review process; (2) the Department's desire to minimize disruption for its grantees in the transition to AEFLA as authorized by WIOA, including with respect to measuring educational gain under the NRS; and (3) the attendant transition authority in section 503(c) of WIOA, which authorizes the Secretary of Education to “take such actions as the Secretary determines to be appropriate to provide for the orderly transition” from AEFLA as authorized by WIA to AEFLA as authorized by WIOA.

Approved Tests, Forms, and Approval Periods

Adult education programs must use only the approved forms and computer-based delivery formats for the tests published in this document. If a particular test form or computer delivery format is not explicitly specified for a test in this notice, it is not approved for use in the NRS.

Tests Previously Determined To Be Suitable for Use in the NRS for a Seven-Year Period From February 2, 2010 Through February 2, 2017 and Now Approved for an Extended Period Through February 2, 2019

(a) The Secretary has determined that the following test is suitable for use at all Adult Basic Education (ABE) and Adult Secondary Education (ASE) levels and at all English-as-a-Second-Language (ESL) levels of the NRS until February 2, 2019:

Comprehensive Adult Student Assessment Systems (CASAS) Reading Assessments (Life and Work, Life Skills, Reading for Citizenship, Reading for Language Arts—Secondary Level). Forms 27, 28, 81, 82, 81X, 82X, 83, 84, 85, 86, 185, 186, 187, 188, 310, 311, 513, 514, 951, 952, 951X, and 952X of this test are approved for use on paper and through the computer-based delivery format. Publisher: CASAS, 5151 Murphy Canyon Road, Suite 220, San Diego, CA 92123-4339. Telephone: (800) 255-1036. Internet: www.casas.org/.

(b) The Secretary has determined that the following tests are suitable for use at all ABE and ASE levels of the NRS until February 2, 2019:

(1) Comprehensive Adult Student Assessment Systems (CASAS) Life Skills Math Assessments—Application of Mathematics (Secondary Level). Forms 31, 32, 33, 34, 35, 36, 37, 38, 505, and 506 of this test are approved for use on paper and through the computer-based delivery format. Publisher: CASAS, 5151 Murphy Canyon Road, Suite 220, San Diego, CA 92123-4339. Telephone: (800) 255-1036. Internet: www.casas.org/.

(2) Massachusetts Adult Proficiency Test (MAPT) for Math. This test is approved for use through a computer-adaptive delivery format. Publisher: Massachusetts Department of Elementary and Secondary Education and University of Massachusetts Amherst, College of Education, 156 Hills South, University of Massachusetts Amherst, Amherst, MA 01003. Telephone: (413) 545-0564. Internet: www.sabes.org/.

(3) Massachusetts Adult Proficiency Test (MAPT) for Reading. This test is approved for use through the computer-adaptive delivery format. Publisher: Massachusetts Department of Elementary and Secondary Education and University of Massachusetts Amherst, College of Education, 156 Hills South, University of Massachusetts Amherst, Amherst, MA 01003. Telephone: (413) 545-0564. Internet: www.sabes.org/.

(4) Tests of Adult Basic Education (TABE 9/10). Forms 9 and 10 are approved for use on paper and through the computer-based delivery format. Publisher: Data Recognition Corporation—CTB, 13490 Bass Lake Road, Maple Grove, MN 55311. Telephone: 800-538-9547. Internet: www.ctb.com/.

(5) Tests of Adult Basic Education Survey (TABE Survey). Forms 9 and 10 are approved for use on paper and through the computer-based delivery format. Publisher: Data Recognition Corporation—CTB, 13490 Bass Lake Road, Maple Grove, MN 55311. Telephone: (800) 538-9547. Internet: www.ctb.com/.

(c) The Secretary has determined that the following tests are suitable for use at all ESL levels of the NRS until February 2, 2019:

(1) Basic English Skills Test (BEST) Literacy. Forms B, C, and D are approved for use on paper. Publisher: Center for Applied Linguistics, 4646 40th Street NW., Washington, DC 20016-1859. Telephone: (202) 362-0700. Internet: www.cal.org/.

(2) Tests of Adult Basic Education Complete Language Assessment System—English (TABE/CLAS-E). Forms A and B are approved for use on paper. Publisher: Data Recognition Corporation—CTB, 13490 Bass Lake Road, Maple Grove, MN 55311. Telephone: (800) 538-9547. Internet: www.ctb.com/.

Tests Previously Approved for an Extended Period Through February 2, 2017 and Now Approved for an Extended Period Through February 2, 2019

(a) The Secretary has determined that the following tests are suitable for use at all ABE and ASE levels of the NRS until February 2, 2019:

(1) General Assessment of Instructional Needs (GAIN)—Test of English Skills. Forms A and B are approved for use on paper and through the computer-based delivery format. Publisher: Wonderlic Inc., 400 Lakeview Parkway, Suite 200, Vernon Hills, IL 60061. Telephone: (877) 605-9496. Internet: www.wonderlic.com/.

(2) General Assessment of Instructional Needs (GAIN)—Test of Math Skills. Forms A and B are approved for use on paper and through the computer-based delivery format. Publisher: Wonderlic Inc., 400 Lakeview Parkway, Suite 200, Vernon Hills, IL 60061. Telephone: (877) 605-9496. Internet: www.wonderlic.com/.

(b) The Secretary has determined that the following tests are suitable for use at all ESL levels of the NRS until February 2, 2019:

(1) Basic English Skills Test (BEST) Plus 2.0. Forms D, E, and F are approved for use on paper and through the computer-adaptive delivery format. Publisher: Center for Applied Linguistics, 4646 40th Street NW., Washington, DC 20016-1859. Telephone: (202) 362-0700. Internet: www.cal.org/.

(2) Comprehensive Adult Student Assessment Systems (CASAS) Life and Work Listening Assessments (LW Listening). Forms 981L, 982L, 983L, 984L, 985L, and 986L are approved for use on paper and through the computer-based delivery format. Publisher: CASAS, 5151 Murphy Canyon Road, Suite 220, San Diego, CA 92123-4339. Telephone: (800) 255-1036. Internet: www.casas.org/.

Revocation of Tests

Under certain circumstances, the Secretary may revoke the determination that a test is suitable (see 34 CFR 462.12(e)). If the Secretary revokes the determination of suitability, the Secretary announces through the Federal Register and posts on the Internet at www.nrsweb.org a notice of that revocation, along with the date by which States and local eligible providers must stop using the revoked test.

Accessible Format: Individuals with disabilities can obtain this document in an accessible format (such as braille, large print, audiotape, or compact disc) on request to the contact person listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 9212.

Dated: December 7, 2016.
Johan E. Uvin,
Deputy Assistant Secretary, Delegated the Duties of Assistant Secretary for Career, Technical, and Adult Education.

[FR Doc. 2016-29899 Filed 12-12-16; 8:45 am]

BILLING CODE 4000-01-P